DEPARTMENT OF COMMERCE

International Trade Administration

[C-570-913]

New Pneumatic Off-the-Road Tires From the People's Republic of China: Extension of Time Limit for Final Results of Countervailing Duty Administrative Review

AGENCY: Import Administration, International Trade Administration, Department of Commerce.

DATES: Effective Date: January 25, 2011.

FOR FURTHER INFORMATION CONTACT: Andrew Huston or Jun Jack Zhao, AD/CVD Operations, Office 6, Import Administration, International Trade Administration, U.S. Department of Commerce, 14th Street and Constitution Avenue, NW., Washington, DC 20230; telephone: (202) 482-4261 and (202) 482-1396, respectively.

SUPPLEMENTARY INFORMATION:

Background

On October 19, 2010, the Department of Commerce (the Department) published the preliminary results of the administrative review of the countervailing duty order on certain new pneumatic off-the-road tires from the People's Republic of China. See New Pneumatic Off-the-Road Tires From the People's Republic of China: Preliminary Results of Countervailing Duty Administrative Review, 75 FR 64268 (October 19, 2010) (Preliminary Results). This administrative review covers the period December 17, 2007, through December 31, 2008. The current deadline for the final results of review is February 16, 2011.

Extension of Time Limit for Final Results

Pursuant to section 751(a)(3)(A) of the Tariff Act of 1930, as amended (the Act), and 19 CFR 351.213(h)(1), the Department shall issue final results in an administrative review of a countervailing duty order within 120 days after the date on which notice of the preliminary results were published in the Federal Register. However, if the Department determines that it is not practicable to complete the review within the aforementioned specified time limits, section 751(a)(3)(A) of the Act and 19 CFR 351.213(h)(2) allow the Department to extend the 120-day period to 180 days.

Pursuant to section 751(a)(3)(A) of the Act and 19 CFR 351.213(h)(2), we determine that it is not practicable to complete the results of this review within the original time limit. The Department needs additional time to analyze novel issues related to creditworthiness, and the respondent's financial history. In accordance with section 751(a)(3)(A) of the Act, we have decided to extend the due date for the completion of the final results of this review from February 16, 2011, to April 17, 2011, 180 days after the date of publication of the Preliminary Results.

Because April 17, 2011, falls on a Sunday, it is the Department's long-standing practice to issue a determination the next business day when the statutory deadline falls on a weekend, federal holiday, or any other day when the Department is closed. See Notice of Clarification: Application of “Next Business Day” Rule for Administrative Determination Deadlines Pursuant to the Tariff Act of 1930, As Amended, 70 FR 24533 (May 10, 2005). Accordingly, the deadline for the completion of these final results is now no later than April 18, 2011.

This notice is issued and published in accordance with sections 751(a)(3)(A) and 777(i)(1) of the Act.

Dated: January 18, 2011.
Christian Marsh,
Deputy Assistant Secretary for Antidumping and Countervailing Duty Operations.

[FR Doc. 2011-1397 Filed 1-24-11; 8:45 am]

BILLING CODE 3510-DS-P